DEPARTMENT OF THE TREASURY

Submission for OMB Review; Comment Request

May 23, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 3, 2000, to be assured of consideration.

Internal Revenue Service (IRS)

OMB Number: 1545-1060.

Form Number: IRS Form 8288-B.

Type of Review: Extension.

Title: Application for Withholding Certificate for Dispositions by Foreign Persons of U.S. Real Property Interest.

Description: Form 8288-B is used to apply for a withholding certificate from IRS to reduce or eliminate the withholding required by section 145.

Respondents: Business or other for-profit, Individual or households.

Estimated Number of Respondents/Recordkeepers: 5,079.

Estimated Burden Hours Per Respondent/Recordkeeper:

Recordkeeping | 2 hr., 4 min.
Learning about the law or the form | 2 hr., 2 min.
Preparing the form | 1 hr., 1 min.
Copying, assembling, and sending the form to the IRS | 20 min.

Frequency of Response: On occasion.

Estimated Total Reporting/Recordkeeping Burden: 27,782 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-13687 Filed 5-31-00; 8:45 am]

BILLING CODE 4830-01-U